DEPARTMENT OF VETERANS AFFAIRS

38 CFR Part 4

RIN 2900-AO19

Schedule for Rating Disabilities: The Hematologic and Lymphatic Systems; Correction

AGENCY: Department of Veterans Affairs.

ACTION: Correcting amendments.

SUMMARY: On October 29, 2018, the Department of Veterans Affairs (VA) published in the Federal Register a final rule that amended the portion of the VA Schedule for Rating Disabilities (“VASRD” or “rating schedule”) that addresses the hematologic and lymphatic systems. This correction addresses two typographical errors in the text of a 100-percent disability evaluation language under diagnostic code (DC) 7718, Essential Thrombocythemia and Primary Myelofibrosis, and Note (2) under DC 7718 in the published final rule.

DATES: This correction is effective October 11, 2022. The correction is applicable as of December 9, 2018.

FOR FURTHER INFORMATION CONTACT: Leah Carey, Regulations Analyst, VASRD Program Management Office (218A), Compensation Service, Veterans Benefits Administration, Department of Veterans Affairs, 810 Vermont Avenue NW, Washington, DC 20420, (202) 461-9700. (This is not a toll-free telephone number.)

SUPPLEMENTARY INFORMATION: VA is correcting its regulations published on October 29, 2018, in the Federal Register at 83 FR 54250 in the final rule “RIN 2900-AO19, Schedule for Rating Disabilities: The Hematologic and Lymphatic Systems”. The first error is within the text of the 100 percent evaluation for diagnostic code (DC) 7718 Essential Thrombocythemia and Primary Myelofibrosis. Within the preamble of the proposed rule, VA proposed a 100-percent evaluation in cases requiring either continuous myelosuppressive therapy or, for six months following hospital admission, any of the following treatments: peripheral blood or bone marrow stem cell transplant, or chemotherapy, or radioactive phosphorus. (See 80 FR 46888 published August 6, 2015.) Within the final rule, VA replaced radioactive phosphorus with interferon treatment because radioactive phosphorus is an outdated treatment and interferon alpha treatment is in line with current clinical practice. (See 83 FR 54253 published October 29, 2018.) However, VA omitted “any of the following treatments:” in the regulatory text of its proposed and final rules. VA corrects this error by adding the phrase “for any of the following treatments:” after the words “hospital admission” of the 100-percent disability evaluation criteria under DC 7718.

The second error is within the text of Note (2) under DC 7718. VA excluded interferon treatment from its discussion regarding the assignment of 100 percent evaluations and mandatory VA examinations following hospital admission. To promote clarity and the consistency of application of its rating schedule, VA adds interferon treatment to the list of treatments to the text on Note (2). This change is editorial in nature and does not result in any substantive changes to the rating criteria.

List of Subjects in 38 CFR Part 4

Disability benefits, Pensions, Veterans.

For the reasons set out in the preamble, 38 CFR part 4 is corrected by making the following correcting amendment:

PART 4—SCHEDULE FOR RATING DISABILITIES

1. The authority citation for part 4 continues to read as follows:

Authority: 38 U.S.C. 1155, unless otherwise noted.

2. Amend § 4.117 by revising the entry for diagnostic code 7718 to read as follows:

§ 4.117 Schedule of ratings—hematologic and lymphatic systems.

* * * * *

| Rating
* * * * * * *
7718 Essential thrombocythemia and primary myelofibrosis:
Requiring either continuous myelosuppressive therapy, or, for six months following hospital admission for any of the following treatments: peripheral blood or bone marrow stem cell transplant, or chemotherapy, or interferon treatment | 100
Requiring continuous or intermittent myelosuppressive therapy, or chemotherapy, or interferon treatment to maintain platelet count <500 × 10⁹/L | 70
Requiring continuous or intermittent myelosuppressive therapy, or chemotherapy, or interferon treatment to maintain platelet count of 200,000-400,000, or white blood cell (WBC) count of 4,000-10,000 | 30
Asymptomatic | 0
Note (1): If the condition undergoes leukemic transformation, evaluate as leukemia under diagnostic code 7703.
Note (2): A 100 percent evaluation shall be assigned as of the date of hospital admission for peripheral blood or bone marrow stem cell transplant; or during the period of treatment with chemotherapy (including myelosuppressants) or interferon treatment. Six months following hospital discharge or, in the case of chemotherapy treatment, six months after completion of treatment, the appropriate disability rating shall be determined by mandatory VA examination. Any reduction in evaluation based upon that or any subsequent examination shall be subject to the provisions of § 3.105(e) of this chapter.
* * * * * * *

Jeffrey M. Martin,
Assistant Director, Office of Regulation Policy & Management, Office of the Secretary, Department of Veterans Affairs.

[FR Doc. 2022-21995 Filed 10-7-22; 8:45 am]

BILLING CODE 8320-01-P